LIBRARY OF CONGRESS

Copyright Royalty Board

[Docket Nos. 23-CRB-0016-AU (Cumulus Media), 23-CRB-0018-AU (Spanish Broadcasting System), 23-CRB-0019-AU (Stephens Media Group), 23-CRB-0020-AU (SummitMedia, LLC) 23-CRB-0021-AU (Urban One)]

Notice of Intent To Audit

AGENCY: Copyright Royalty Board, Library of Congress.

ACTION: Public notice.

SUMMARY: The Copyright Royalty Judges announce receipt from SoundExchange, Inc., of notices of intent to audit the 2020, 2021, and 2022 statements of account submitted by commercial webcasters Cumulus Media, Spanish Broadcasting, Stephens Media Group, Summit Media, Urban One concerning royalty payments they made pursuant to two statutory licenses.

ADDRESSES: Dockets: For access to the dockets to read background documents, go to eCRB at https://app.crb.gov and perform a case search for docket 23-CRB-0016-AU (Cumulus Media), 23-CRB-0018-AU (Spanish Broadcasting System), 23-CRB-0019-AU (Stephens Media Group), 23-CRB-0020-AU (SummitMedia, LLC), or 23-CRB-0021-AU (Urban One).

FOR FURTHER INFORMATION CONTACT: Anita Brown, (202) 707-7658, crb@loc.gov.

SUPPLEMENTARY INFORMATION: The Copyright Act grants to sound recordings copyright owners the exclusive right to publicly perform sound recordings by means of certain digital audio transmissions, subject to limitations. Specifically, the right is limited by the statutory license in section 114, which allows nonexempt noninteractive digital subscription services, eligible nonsubscription services, and preexisting satellite digital audio radio services to perform publicly sound recordings by means of digital audio transmissions. 17 U.S.C. 114(f). In addition, a statutory license in section 112 allows a service to make necessary ephemeral reproductions to facilitate digital transmission of the sound recording. 17 U.S.C. 112(e).

Licensees may operate under these licenses provided they pay the royalty fees and comply with the terms set by the Copyright Royalty Judges. The rates and terms for the section 112 and 114 licenses are codified in 37 CFR parts 380 and 382-84.

As one of the terms for these licenses, the Judges designated SoundExchange, Inc., (SoundExchange) as the Collective, i.e., the organization charged with collecting the royalty payments and statements of account submitted by licensees, including those that operate commercial and noncommercial webcaster services, preexisting satellite digital audio radio services, new subscription services, and those that make ephemeral copies for transmission to business establishments. The Collective is also charged with distributing the royalties to the copyright owners and performers entitled to receive them under the section 112 and 114 licenses. See 37 CFR 380.4(d)(1), 382.5(d)(1), 383.4(a), 384.4(b)(1).

As the Collective, SoundExchange may, only once a year, conduct an audit of a licensee for any or all of the prior three calendar years to verify royalty payments. SoundExchange must first file with the Judges a notice of intent to audit a licensee and deliver the notice to the licensee. See 37 CFR 380.6(b), 382.7(b), 383.4(a) and 384.6(b).

On December 22, 2023, SoundExchange filed with the Judges notices of intent to audit the statements of account submitted by commercial webcasters Cumulus Media, Spanish Broadcasting, Stephens Media Group, Summit Media, Urban One for the years 2020, 2021, and 2022. The Judges must publish notice in the Federal Register within 30 days of receipt of a notice announcing the Collective's intent to conduct an audit. See 37 CFR 380.6(c) 382.7(c), 383.4(a) and 384.6(c). This notice fulfills the Judges' publication obligation with respect to SoundExchange's December 22, 2023 notices of intent to audit commercial webcasters Cumulus Media, Spanish Broadcasting, Stephens Media Group, Summit Media, Urban One for the years 2020, 2021, and 2022.

Dated: January 9, 2024.
David P. Shaw,
Chief Copyright Royalty Judge.

[FR Doc. 2024-00684 Filed 1-12-24; 8:45 am]

BILLING CODE 1410-72-P